DEPARTMENT OF ENERGY

Draft Long-Term Stewardship Study

AGENCY: Department of Energy (DOE).

ACTION: Notice of availability, opportunity to comment and public hearing.

SUMMARY: The Department of Energy (DOE) announces the release of the Draft Long-Term Stewardship Study (Draft Study) for public review, comment and public hearing. This Draft Study has been prepared in accordance with the terms of a 1998 Settlement Agreement that resolved a lawsuit brought against DOE by the Natural Resources Defense Council (NRDC) and other plaintiffs.

The Draft Study examines the institutional and programmatic issues facing DOE as it completes the environmental cleanup program at its sites. In keeping with the requirement that the Draft Study meet certain DOE requirements for public review in 10 CFR 1021.313, made applicable under the terms of the Settlement Agreement, DOE invites the general public, other Federal agencies, Native American Tribes, state and local governments, and all other interested parties to comment on the Draft Study. The purpose of the public hearing is to receive oral and written comments on the Draft Study.

DATES: The public comment period will extend to December 15, 2000. Comments received after that date will be considered to the extent practicable.

The public hearing will be held Thursday, November 30, 2000, from 9 am to 1 pm. Submit written notices of participation by November 20, 2000.

ADDRESSES: The public hearing will be held at the U.S. Department of Energy, Forrestal Building, 1000 Independence Ave SW, Washington, D.C., Room 1E245.

Submit written notices of participation in the public hearing, requests for information about the Draft Study and written comments on the Draft Study to Steven Livingstone, Project Manager, Office of Long-Term Stewardship (EM-51), Office of Environmental Management, U.S. Department of Energy, P.O. Box 45079, Washington, D.C. 20026-5079, phone: 202-586-9280; or submitted electronically to: Steven.Livingstone@em.doe.gov; or submitted by fax to: 202-863-7036.

Copies of the Draft Study can be requested by telephone at 1-800-736-3282 (“1-800-7EM-DATA”). The Draft Study and its supporting technical documents also are available for review at www.em.doe.gov/lts and at the DOE Reading Room addresses referenced in the “Availability of the Draft Study and Related Information” section of this notice.

SUPPLEMENTARY INFORMATION:

Background

DOE has prepared the Draft Study on the possible consequences of long-term stewardship according to the terms of a 1998 settlement agreement that resolved a lawsuit brought against DOE by the Natural Resources Defense Council and 38 other plaintiffs [Natural Resources Defense Council, et al. v. Richardson, et al., Civ. No. 97-936 (SS) (D.D.C. Dec. 12, 1998)]. The Draft Study incorporates input received during a public scoping process and examines the institutional and programmatic issues currently facing DOE as it completes the environmental cleanup program at its sites. Long-term stewardship, under the agreement, refers to:

The physical controls, institutions, information and other mechanisms needed to ensure protection of people and the environment at sites where DOE has completed or plans to complete “cleanup” (e.g., landfill closures, remedial actions, removal actions, and facility stabilization). This concept of long-term stewardship includes, inter alia, land-use controls, monitoring, maintenance, and information management.

Study Goal and Approach

The goal of the Draft Study is to inform decision-makers and the public about the long-term stewardship issues and challenges facing DOE and potential options for addressing such issues.

The Draft Study does:

• Describe DOE's long-term stewardship responsibilities, the status of current and ongoing stewardship obligations, activities and initiatives, and the plans for future activities;

• Analyze the national issues that DOE needs to address in planning for and conducting long-term stewardship activities; and

• Promote information exchange on long-term stewardship among DOE, Tribal nations, state and local governments, and private citizens.

The Draft Study does not:

• Serve as a National Environmental Policy Act (NEPA) document or its functional equivalent;

• Identify or address site-specific issues, except as examples in the context of presenting national issues; or

• Address issues specific to nuclear stockpile stewardship, other activities related to national security, or the Central Internet Database required by the settlement agreement.

Study Development Process

The terms of the settlement agreement stipulate that DOE follow the President's Council on Environmental Quality (CEQ) procedures for public scoping, 40 CFR 1501.7(a)(1)-(2) for this study, even though it is not a NEPA document or its functional equivalent. Therefore, DOE conducted a scoping process during October 1999—February 2000 to gather comments on the scope of the Draft Study. The scoping period was initially intended to run from October 1999 to January 2000, but was extended by request to February 2000. The scoping process provided DOE with input about the topics and issues that should be included in the Draft Study, within the general parameters established by the settlement agreement. DOE developed the overall scope and issues that are addressed in the Draft Study based on comments received through the scoping process, ongoing work on long-term stewardship being conducted by DOE and non-DOE organizations, and requirements of the settlement agreement. DOE is soliciting comments on the Draft Study during a public comment period that begins on the date of publication of this notice and ends on December 15, 2000. Similarly, a public hearing will be held to receive oral and written comments from the public on the Draft Study. Comments received during the public comment period will be used by DOE to complete the final study. DOE's responses to comments received during the public comment period will be presented in a public comment summary document to be issued as part of the final study.

Availability of the Draft Study and Related Information

DOE released a background document, From Cleanup to Stewardship, a Companion Report to “Paths to Closure” and Background Information to Support the Scoping Process Required for the 1998 PEIS Settlement Study in October 1999. In producing the background document and the Draft Study, DOE used the same data set used to develop the 1998 Accelerating Cleanup: Paths to Closure report. DOE used this information to identify sites where contaminated facilities, water, soil, and/or engineered units would likely remain after cleanup is complete to estimate the scope of long-term stewardship activities. Both the Draft Study on long-term stewardship and the background document are the best available information sources to date on the issue of DOE's long-term stewardship responsibilities. Copies of the Draft Study and the background document or other related information can be obtained by contacting:

• The Internet Web Site at www.em.doe.gov/lts, which contains information on long-term stewardship related issues produced by DOE and outside sources.

• The Center for Environmental Management Information, 955 L'Enfant Plaza, North, SW, Suite 8200, Washington, D.C. 20024, 1-800-736-3282 (“1-800-7EM-DATA”).

• DOE Reading Rooms (for locations of the DOE Reading Rooms or other public information repositories containing background information, please contact the Center for Environmental Management Information at the above address and telephone).

Issued in Washington D.C., October 24, 2000.
James D. Werner,
Director, Office of Long-Term Stewardship, Office of Environmental Management.

[FR Doc. 00-27902 Filed 10-31-00; 8:45 am]

BILLING CODE 6450-01-U